DEPARTMENT OF COMMERCE

National Oceanic and Atmospheric Administration

RIN 0648-XD774

Pacific Fishery Management Council; Public Meetings

AGENCY: National Marine Fisheries Service (NMFS), National Oceanic and Atmospheric Administration (NOAA), Commerce.

ACTION: Notice of public meetings.

SUMMARY: The Pacific Fishery Management Council (Pacific Council) and its advisory entities will hold public meetings.

DATES: The Pacific Council and its advisory entities will meet March 6-12, 2015. The Pacific Council meeting will begin on Sunday, March 8, 2015 at 8 a.m., reconvening each day through Thursday, March 12, 2015. All meetings are open to the public, except a closed session will be held at 8 a.m. on Sunday, March 8 to address litigation and personnel matters. The Pacific Council will meet as late as necessary each day to complete its scheduled business.

ADDRESSES: Meetings of the Council and its advisory entities will be held at the Hilton Vancouver Washington, 301 W. 6th Street, Vancouver, WA 98660; telephone: (360) 993-4500.

Council Address: Pacific Fishery Management Council, 7700 NE Ambassador Place, Suite 101, Portland, OR 97220. Instructions for attending the meeting via live stream broadcast are given under SUPPLEMENTARY INFORMATION, below.

FOR FURTHER INFORMATION CONTACT: Dr. Donald O. McIsaac, Executive Director; telephone: (503) 820-2280 or (866) 806-7204 toll free; or access the Pacific Council Web site, http://www.pcouncil.org for the current meeting location, proposed agenda, and meeting briefing materials.

SUPPLEMENTARY INFORMATION: The March 8-12, 2015 meeting of the Pacific Fishery Management Council will be streamed live on the internet. The live meeting will be broadcast daily starting at 9 a.m. Pacific Time (PT) beginning on Sunday, March 8, 2015 through Thursday, March 12, 2015. The broadcast will end daily at 6 p.m. PT or when business for the day is complete. Only the audio portion, and portions of the presentations displayed on the screen at the Council meeting, will be broadcast. The audio portion is listen-only; you will be unable to speak to the Council via the broadcast. Join the meeting by visiting this link http://www.joinwebinar.com, enter the Webinar ID for this meeting, which is 138-252-315 and enter your email address as required. It is recommended that you use a computer headset as GoToMeeting allows you to listen to the meeting using your computer headset and speakers. If you do not have a headset and speakers, you may use your telephone for the audio portion of the meeting by dialing this TOLL number 1-480-297-0021 (not a toll free number); entering the phone audio access code 326-426-740; and then entering your Audio Pin which will be shown to you after joining the webinar. The webinar is broadcast in listen only mode.

The following items are on the Pacific Council agenda, but not necessarily in this order. Agenda items noted as “(Final Action)” refer to actions requiring the Council to transmit a proposed fishery management plan, proposed plan amendment, or proposed regulations to the Secretary of Commerce, under Sections 304 or 305 of the Magnuson-Stevens Fishery Conservation and Management Act. Additional detail on agenda items, Council action, and meeting rooms, is described in Agenda Item A.4, Proposed Council Meeting Agenda, and will be in the advance March 2015 briefing materials and posted on the Council Web site www.pcouncil.org.

A. Call to Order

1. Opening Remarks

2. Roll Call

3. Executive Director's Report

4. Approve Agenda

B. Open Comment Period

1. Comments on Non-Agenda Items

C. Enforcement Issues

1. Annual U.S. Coast Guard Fishery Enforcement Report

D. Habitat

1. Current Habitat Issues

E. Ecosystem Management

1. California Current Ecosystem Report Including Integrated Ecosystem Assessment

2. Review of Fishery Ecosystem Plan Initiatives

3. NMFS Climate Science Strategy Update

4. Unmanaged Forage Fish Protection Final Action (Final Action)

F. Salmon Management

1. National Marine Fisheries Service Report

2. Review of 2014 Fisheries and Summary of 2015 Stock Abundance Forecasts

3. Identification of Management Objectives and Preliminary Definition of 2015 Salmon Management Alternatives (Final Action)

4. Council Recommendations for 2015 Management Alternative Analysis

5. Further Council Direction for 2015 Management Alternatives

6. Adoption of 2015 Management Alternatives for Public Review

7. Salmon Hearings Officers

G. Pacific Halibut Management

1. Report on the International Pacific Halibut Commission (IPHC) Meeting

2. Incidental Catch Recommendations for the Salmon Troll and Fixed Gear Sablefish Fisheries (Final Action for Sablefish)

H. Highly Migratory Species Management

1. National Marine Fisheries Service Report

2. Recommendations for International Management Activities Including US-Canada Albacore Treaty Area Fishery Update

3. Final Exempted Fishing Permit Approval (Final Action)

4. Drift Gillnet Management and Monitoring Plan Including Final Action on Hard Caps (Final Action)

I. Administrative Matters

1. Legislative Matters

2. National Marine Fisheries Service West Coast Region Strategic Plan Update

3. Approval of Council Meeting Minutes

4. Membership Appointments and Council Operating Procedures

5. Future Council Meeting Agenda and Workload Planning

Schedule of Ancillary Meetings

Day 1—Friday, March 6, 2015

Habitat Committee 8:30 a.m.

Coastal Pelagic Species Subcommittee of the Scientific and Statistical Committee 10 a.m.

Day 2—Saturday, March 7, 2015

Scientific and Statistical Committee 8 a.m.

Ecosystem Advisory Subpanel 8 a.m.

Legislative Committee 1 p.m.

Day 3—Sunday, March 8, 2015

California State Delegation 7 a.m.

Oregon State Delegation 7 a.m.

Washington State Delegation 7 a.m.

Ecosystem Advisory Subpanel 8 a.m.

Highly Migratory Species Advisory Subpanel 8 a.m.

Highly Migratory Species Management Team 8 a.m.

Scientific and Statistical Committee 8 a.m.

Salmon Advisory Subpanel 8 a.m.

Salmon Technical Team 8 a.m.

Enforcement Consultants 3 p.m.

Tribal Policy Group Ad hoc

Tribal and Washington Technical Group Ad hoc

Day 4—Monday, March 9, 2015

California State Delegation 7 a.m.

Oregon State Delegation 7 a.m.

Washington State Delegation 7 a.m.

Highly Migratory Species Advisory Subpanel 8 a.m.

Highly Migratory Species Management Team 8 a.m.

Salmon Advisory Subpanel 8 a.m.

Salmon Technical Team 8 a.m.

Enforcement Consultants Ad hoc

Tribal Policy Group Ad hoc

Tribal and Washington Technical Group Ad hoc

Day 5—Tuesday, March 10, 2015

California State Delegation 7 a.m.

Oregon State Delegation 7 a.m.

Washington State Delegation 7 a.m.

Highly Migratory Species Advisory Subpanel 8 a.m.

Highly Migratory Species Management Team 8 a.m.

Salmon Advisory Subpanel 8 a.m.

Salmon Technical Team 8 a.m.

Enforcement Consultants Ad hoc

Tribal Policy Group Ad hoc

Tribal and Washington Technical Group Ad hoc

Day 6—Wednesday, March 11, 2015

California State Delegation 7 a.m.

Oregon State Delegation 7 a.m.

Washington State Delegation 7 a.m.

Highly Migratory Species Advisory Subpanel 8 a.m.

Highly Migratory Species Management Team 8 a.m.

Salmon Advisory Subpanel 8 a.m.

Salmon Technical Team 8 a.m.

Enforcement Consultants Ad hoc

Tribal Policy Group Ad hoc

Tribal and Washington Technical Group Ad hoc

Day 7—Thursday, March 12, 2015

California State Delegation 7 a.m.

Oregon State Delegation 7 a.m.

Washington State Delegation 7 a.m.

Salmon Advisory Subpanel 8 a.m.

Salmon Technical Team 8 a.m.

Enforcement Consultants Ad hoc

Tribal Policy Group Ad hoc

Tribal and Washington Technical Group Ad hoc

Although non-emergency issues not contained in this agenda may come before this Council for discussion, those issues may not be the subject of formal Council action during these meetings. Council action will be restricted to those issues specifically listed in this notice and any issues arising after publication of this notice that require emergency action under Section 305(c) of the Magnuson-Stevens Fishery Conservation and Management Act, provided the public has been notified of the Council's intent to take final action to address the emergency.

Special Accommodations

These meetings are physically accessible to people with disabilities. Requests for sign language interpretation or other auxiliary aids should be directed to Carolyn Porter at (503) 820-2280 at least 5 days prior to the meeting date.

Dated: February 11, 2015.
Tracey L. Thompson,
Acting Deputy Director, Office of Sustainable Fisheries, National Marine Fisheries Service.

[FR Doc. 2015-03204 Filed 2-17-15; 8:45 am]

BILLING CODE 3510-22-P